DEPARTMENT OF HEALTH AND HUMAN SERVICES

National Institutes of Health

National Cancer Institute; Notice of Meeting

Pursuant to section 1009 of the Federal Advisory Committee Act, as amended, notice is hereby given of a meeting of the President's Cancer Panel.

This will be a hybrid meeting, i.e., held in-person and virtually, and will be open to the public, with in-person attendance limited to space available. Individuals who plan to attend in-person or view the virtual meeting and need special assistance, such as sign language interpretation or other reasonable accommodations, should notify the Contact Person listed below in advance of the meeting. The meeting can be accessed by clicking on the following link: https://nci.rev.vbrick.com/#/webcasts/opportunitiesforenhancingpatientnavigation.

Name of Committee: President's Cancer Panel.

Date: October 17, 2023.

Time: 8:30 a.m. to 4:30 p.m.

Agenda: Reducing Cancer Care Inequities: Leveraging Technology to Enhance Patient Navigation—Opportunities for Enhancing Patient Navigation.

Place: The Royal Sonesta New Orleans, North Ballroom, Level One, 300 Bourbon Street, New Orleans, LA 70130 (Hybrid Meeting).

Contact Person: Maureen R. Johnson, Ph.D., Executive Secretary, President's Cancer Panel, Special Assistant to the Director, National Cancer Institute, NIH, 31 Center Drive, Room 11A48, MSC 2590, Bethesda, MD 20892, 240-781-3327, johnsonr@mail.nih.gov.

Any interested person may file written comments with the committee by forwarding the statement to the Contact Person listed on this notice. The statement should include the name, address, telephone number and when applicable, the business or professional affiliation of the interested person.

Information is also available on the Institute's/Center's home page: http://deainfo.nci.nih.gov/advisory/pcp/index.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: August 14, 2023.
Melanie J. Pantoja,
Program Analyst, Office of Federal Advisory Committee Policy.

[FR Doc. 2023-17763 Filed 8-17-23; 8:45 am]

BILLING CODE 4140-01-P